DEPARTMENT OF THE INTERIOR

Fish and Wildlife Service

Notice of Availability of the Final Restoration Plan and Environmental Assessment for the Certus, Inc. Chemical Spill Natural Resource Damage Assessment in Tazewell County, VA

AGENCY: U.S. Fish and Wildlife Service, Department of the Interior.

ACTION: Notice of availability.

SUMMARY: The U.S. Fish and Wildlife Service (Service), on behalf of the Department of the Interior (DOI) and the Commonwealth of Virginia (jointly referred to as the Trustees), announces the release of the Final Restoration Plan and Environmental Assessment (RP/EA) for the Certus, Inc. Chemical Spill Natural Resource Damage Assessment in Tazewell County, Virginia. The final RP/EA describes the Trustees' proposal to restore natural resources injured as a result of a release of hazardous substances.

DATES: August 15, 2004.

ADDRESSES: Requests for copies of the final RP/EA may be made to: U.S. Fish and Wildlife Service, Virginia Field Office, 6669 Short Lane, Gloucester, Virginia 23061.

FOR FURTHER INFORMATION CONTACT: John Schmerfeld, U.S. Fish and Wildlife Service, 6669 Short Lane, Gloucester, Virginia 23061. Interested parties may also call 804-693-6694, extension 107, for further information.

SUPPLEMENTARY INFORMATION: On August 27, 1998, a tanker truck overturned on U.S. Route 460 in Tazewell County, Virginia. The truck released approximately 1,350 gallons of Octocure 554-revised, a rubber accelerant, into an unnamed tributary about 530 feet from its confluence with the Clinch River. The spill turned the river a snowy white color and caused a significant fish kill. The spill also killed most aquatic benthic invertebrates for about 7 miles downstream and destroyed one of the last two known remaining reproducing populations of the endangered tan riffleshell mussel. A consent decree was entered with the U.S. District Court for the Western District of Virginia, Abingdon Division, by the United States and Certus, Inc. on April 7, 2003, to address natural resource damages resulting from the 1998 release. The consent decree stipulates that settlement funds are to be “* * * managed by the DOI for the joint benefit and use of the Federal and State Trustees to plan, perform, monitor and oversee native, freshwater mussel restoration projects within the Clinch River watershed * * *”

Under the authority of the Comprehensive Response, Compensation and Liability Act of 1980, as amended (CERCLA), 42 U.S.C. 9601 et. seq., “natural resource trustees may assess damages to natural resources resulting from a discharge of oil or a release of a hazardous substance * * * and may seek to recover those damages.” Natural resource damage assessments (NRDA) are separate from the cleanup actions undertaken at a hazardous waste or spill site, and provide a process whereby the natural resource trustees can determine the proper compensation to the public for injury to natural resources. The natural resource damage assessment process seeks to: (1) Determine whether injury to, or loss of, trust resources has occurred; (2) ascertain the magnitude of the injury or loss; (3) calculate the appropriate compensation for the injury, including the cost of restoration; and (4) develop a restoration plan that will restore, rehabilitate, replace, and/or acquire equivalent resources for those resources that were injured or lost.

This final RP/EA has been developed by the Trustees in order to address and evaluate restoration alternatives related to natural resource injuries within the Clinch River watershed. The purpose of this RP/EA is to implement restoration actions that will restore, rehabilitate, replace, and/or acquire natural resources and the services provided by those resources that approximate those injured as a result of the spill using funds collected as natural resource damages for injuries, pursuant to the CERCLA. This final RP/EA describes the affected environment, identifies potential restoration alternatives and their plausible environmental consequences, and describes the proposed preferred alternative.

Section 111(i) of the CERCLA requires natural resource trustees to develop a restoration plan prior to allocating recoveries to implement restoration actions, and to obtain public comment on that plan. Under the National Environmental Policy Act (NEPA), Federal agencies must identify and evaluate environmental impacts that may result from Federal actions. This final RP/EA has integrated CERCLA and NEPA requirements by summarizing the affected environment, describing the purpose and need for action, and selecting and describing the preferred restoration activities and including public comment.

This final RP/EA will be available to interested members of the public, natural resource Trustees, other affected Federal or State agencies or Native American tribes upon request.

Author: The primary author of this notice is John Schmerfeld, U.S. Fish & Wildlife Service, Virginia Field Office, 6669 Short Lane, Gloucester, Virginia 23061.

Authority: The authority for this action is the Comprehensive Environmental Response, Compensation and Liability Act of 1980 as amended, commonly known as Superfund (42 U.S.C. 9601 et seq.), and the NRDA Regulations found at 43 CFR, part 11.

Dated: August 11, 2004.
Thomas J. Healy,
Acting Regional Director, Region 5, U.S. Fish and Wildlife Service, Department of the Interior, Designated Authorized Official.

[FR Doc. 04-18918 Filed 8-17-04; 8:45 am]

BILLING CODE 4310-55-P